DEPARTMENT OF TRANSPORTATION

Pipeline and Hazardous Materials Safety Administration

49 CFR Part 192

[Docket No. PHMSA-2011-0023; Amdt. No. 192-133]

RIN 2137-AF39

Pipeline Safety: Safety of Gas Transmission Pipelines: Repair Criteria, Integrity Management Improvements, Cathodic Protection, Management of Change, and Other Related Amendments: Technical Corrections; Response to Petitions for Reconsideration

AGENCY: Pipeline and Hazardous Materials Safety Administration (PHMSA), Department of Transportation (DOT).

ACTION: Final rule; technical corrections; response to petitions for reconsideration.

SUMMARY: PHMSA is making necessary technical corrections to ensure consistency within, and the intended effect of, a recently issued final rule titled “Safety of Gas Transmission Pipelines: Repair Criteria, Integrity Management Improvements, Cathodic Protection, Management of Change, and Other Related Amendments.” PHMSA also alerts the public to its November 18, 2022, and April 19, 2023, responses to petitions for reconsideration of this final rule.

DATES: Effective May 24, 2023.

FOR FURTHER INFORMATION CONTACT:

Technical questions: Steve Nanney, Senior Technical Advisor, by telephone at 713-272-2855.

General information: Robert Jagger, Senior Transportation Specialist, by telephone at 202-366-4361.

SUPPLEMENTARY INFORMATION: On August 24, 2022, as the culmination of a decade-long rulemaking process, PHMSA published a final rule titled “Safety of Gas Transmission Pipelines: Repair Criteria, Integrity Management Improvements, Cathodic Protection, Management of Change, and Other Related Amendments” ¹ amending the Pipeline Safety Regulations at 49 CFR part 192 to improve the safety of onshore gas transmission pipelines. In preparing to implement provisions of the August 2022 Final Rule, as well as through discussions with stakeholders (including petitions for reconsideration of the August 2022 Final Rule), PHMSA has identified several places in the amended regulatory text that would benefit from technical correction to facilitate timely implementation of the August 2022 Final Rule consistent with the function and purposes described in the administrative record. PHMSA also alerts the public to the availability in the rulemaking docket of its November 18, 2022, response to a petition for reconsideration filed by the American Gas Association and its April 19, 2022, response to a petition for reconsideration jointly filed by the Interstate Natural Gas Association of America and the American Petroleum Institute.

¹ 87 FR 52224 (Aug. 24, 2022) (“August 2022 Final Rule”).

A. Technical Corrections To Ensure Consistency Between §§ 192.714 and 192.933

Among the August 2022 Final Rule's regulatory amendments were the enhancement of existing repair criteria and repair schedules for anomalies discovered in a High Consequence Area (HCA) and the extension of those repair criteria and schedules to onshore gas transmission lines outside an HCA. See 87 FR at 52226 (“The content of the non-HCA repair criteria being finalized in this rule is consistent with the criteria for HCAs”). This was achieved by adding similar repair criteria and scheduling requirements to both 49 CFR 192.714 (applicable to non-HCA lines) and § 192.933 (applicable to HCA lines). See 87 FR at 52246. However, PHMSA has identified three instances in the amended regulatory text that would benefit from technical correction to facilitate timely implementation of the August 2022 Final Rule consistent with the function and purposes described in the administrative record.

First, both §§ 192.714 and 192.933 provide, at respective paragraph (d)(1), for specific conditions that must be repaired immediately. These are the most severe, risk-bearing conditions and the August 2022 Final Rule set out the importance for public and environmental safety of their swift remediation upon detection. That detection may come from regularly scheduled assessments and the evaluation of anomalies that appear indicative of a serious condition. Section 7 of ASME/ANSI B31.8S provides that examination of these indications must occur “within a period not to exceed 5 days following determination of the condition,” with “prompt[ ]” remediation thereafter of any defect found to require repair or removal.² ASME/ANSI B31.8S, section 7 is incorporated in the HCA immediate repair criteria at § 192.933(d)(1) for operators to follow in their evaluation and remediation schedule. However, parallel language was inadvertently omitted from § 192.714(d). See 87 FR at 52246 (referencing ASME/ANSI B31.8S, section 7 in the preamble discussion supporting § 192.714).³ This omission from § 192.714 leaves unintended asymmetry in the evaluation and remediation schedule for immediate repair conditions between HCA and non-HCA lines, with potential for operator confusion. As the § 192.714 repair criteria were intended to largely mirror those at § 192.933, PHMSA is correcting this oversight by adding to the beginning of § 192.714(d)(1) similar language that begins § 192.933(d)(1): “An operator's evaluation and remediation schedule for immediate repair conditions must follow section 7 of ASME/ANSI B31.8S (incorporated by reference, see § 192.7).”

² Am. Soc'y Mech. Eng'rs, B31.8S-2004, “Managing System Integrity of Gas Pipelines,” sec. 7 (2005) (“ASME/ANSI B31.8S”).

³ PHMSA included amendatory language at § 192.7(c)(6) to incorporate by reference ASME/ANSI B31.8S for § 192.714(d). See 87 FR at 52267.

Second, §§ 192.714(d)(3) and 192.933(d)(3) list various “monitored conditions” that entail less acute risk to public safety and the environment but which nevertheless merit monitoring by operators to ensure no further degradation occurs. Evidence supporting differentiation between a scheduled repair condition and a monitored repair condition can include an engineering critical assessment (ECA) demonstrating critical strain levels are not exceeded; conversely, exceedance of critical strain levels will often require a condition be scheduled for a repair under §§ 192.714(d)(2) and 192.933(d)(2). For that reason, PHMSA explained during the Gas Pipeline Advisory Committee (GPAC) meeting that it intended for dent repair criteria for both HCA and non-HCA areas to provide that “[d]ents analyzed by ECA, but shown to not exceed critical strain levels[,] would be Monitored Conditions” under §§ 192.714(d)(3) and 192.933(d)(3).⁴ However, the regulatory text adopted by the August 2022 Final Rule included references to ECA as an element for only two of three monitored dent conditions in § 192.714 (applicable to non-HCA lines), even as it referenced ECA for all three monitored dent conditions in § 192.933 (applicable to HCA lines). See §§ 192.714(d)(3)(ii)-(iii) and 192.933(d)(3)(i)-(iii). The omission of ECA in the criteria at § 192.714(d)(3)(i) for dents on the bottom third (⅓) of the pipeline was inadvertent, as further demonstrated by reference to the same condition found in § 192.933(d)(3)(i) for HCA pipelines, which correctly includes the reference to an ECA. Accordingly, PHMSA is correcting the editorial oversight at § 192.714(d)(3)(i) by revising the regulatory language to provide that a dent on the bottom third (⅓) of a pipeline can be a monitored condition “where an engineering analysis, performed in accordance with § 192.712(c), demonstrates critical strain levels are not exceeded.”

⁴ GPAC, Mar. 26 to 28, 2018 Meeting Slides at slide 150 (Mar. 2018); 87 FR at 52249. The GPAC meeting material is available on the public meeting page accessible at https://primis.phmsa.dot.gov/meetings/MtgHome.mtg?mtg=132.

Third, PHMSA also clarifies that § 192.714(b) permits operators in certain circumstances to use the default values provided for in § 192.712(d)(3) and (e)(2) to calculate predicted failure pressure during repair operations when their documented material properties are unknown. Section 192.714(b) sets general, baseline requirements to “ensure that the repairs are made in a safe manner” and requires a “pipeline segment's operating pressure [to] be less than the predicted failure pressure determined in accordance with § 192.712 during repair operations.” Section 192.712 directs operators to use material property values that are documented in traceable, verifiable, and complete records where possible and provides conservative values operators may use where they are not. See § 192.712(d)(3), (e)(2). Operators must, in complying with §§ 192.714(b) and 192.933(a), either use documented material properties where they are available; obtain any missing documentation through § 192.607 where possible; or where such documentation is unavailable and cannot be obtained in a timely manner, employ the conservative assumptions in § 192.712 in their stead. See 87 FR at 52253. To make this clear, PHMSA is issuing a technical correction to add as the final sentence to both §§ 192.714(b) and 192.933(a): “Until documented material properties are available, the operator must use the conservative assumptions in either § 192.712(e)(2) or, if appropriate following a pressure test, in § 192.712(d)(3).” As PHMSA explained in the August 2022 Final Rule, an operator “missing any material properties during anomaly evaluations and repairs” should, through the ensuing repair operation, “confirm those material properties under §§ 192.607 and 192.712(e) through (g)” for future use. 87 FR at 52253.

B. Technical Correction to § 192.319(f) for Consistency With § 192.461(h) Regarding Schedule for Completing Any Necessary Repairs

PHMSA also intended in the August 2022 Final Rule to establish a consistent approach for scheduling remediation of severe coating damage for newly installed (pursuant to § 192.319) and existing (pursuant to § 192.461) pipelines to protect against corrosion. As PHMSA explained during the GPAC meeting, PHMSA intended both §§ 192.319 and 192.461 to provide operators 1 year total (contingent on obtaining any necessary permits) to complete the assessment of a pipe's corrosion protective coating and make any needed repairs; specifically, PHMSA intended to provide operators 6 months for the assessment plus 6 months from the assessment to complete any necessary repairs, with an allowance for permitting delays.⁵ While § 192.461 contains language providing for this schedule at paragraphs (f) (assessment) and (h) (repair), and § 192.319 provides for the same schedule at paragraph (d) (assessment), PHMSA inadvertently omitted such language from paragraph (f) (repair) of § 192.319. PHMSA is therefore issuing a technical correction so that § 192.319(f) provides 6 months from the assessment, or as soon as practical after obtaining necessary permits, to complete any necessary repairs. This technical correction will also ensure that under § 192.319(f) operators apply for any needed permits within 6 months, mirroring the language in § 192.461(h).

⁵ GPAC, June 6 to 7, 2017 Meeting Slides at slides 10 & 13 (June 2017) (providing 6 months for assessment “plus 6 months to complete repairs”); GPAC, June 6, 2017 Meeting Transcript, at 40. The GPAC material is available on the public meeting page accessible at https://primis.phmsa.dot.gov/meetings/MtgHome.mtg?mtg=123.

C. Technical Correction To Specify the Unit Measurement in § 192.473(c)(3) Is in Alternating Current (AC)

Finally, among several provisions providing safety measures against potential corrosion, the August 2022 Final Rule includes language at § 192.473(c) obliging operators to conduct interference surveys to detect certain stray currents, for example, those from “co-located pipelines, structures, or high voltage alternating current (HVAC) power lines.” 87 FR at 52269 (amending § 192.473(c)(1)). Detecting and remediating interference surveys is essential to protecting pipeline integrity against stray currents that interfere with a corrosion control system. 87 FR at 52237. Section 192.473(c)(3), as adopted by the August 2022 Final Rule, requires that operators take remedial action when those surveys detect interference current that meets or exceeds 100 amps per meter square. The precise unit of measure is “100 amps per meter squared alternating current (AC).” 100 amps is calibrated as the appropriate value when measured in AC, as PHMSA has also specified in special permits it has issued, stating: “Remedial action is required when the interference . . . is at a level that could cause significant corrosion (defined as 100 amps per meter square for AC-induced corrosion)[.]” See, e.g., Special Permit Requested by Natural Gas Pipeline Company of America, LLC, Class 1 to Class 3, Dkt. No. PHMSA-2019-0150 (Issued May 17, 2022), https://www.phmsa.dot.gov/sites/phmsa.dot.gov/files/2022-05/2019-0150-NGPL-Class-1-to-3-FL-SP-05-17-2022.pdf; Special Permit Requested by Florida Gas Transmission Company, LCC, Class 1 to Class 3, Dkt. No. PHMSA-2020-0001 (Issued Mar. 31, 2022), https://www.phmsa.dot.gov/sites/phmsa.dot.gov/files/2022-04/2020-0001-Florida-Gas-Transmission-SP-Class-1-to-3-FL-SP-03-31-2022.pdf. PHMSA is issuing a technical correction to clarify in the regulatory text of § 192.473(c)(3) that the unit of measure is in AC.

D. Response to Petitions for Reconsideration

PHMSA alerts the public and regulated community to its responses to petitions for reconsideration filed by the American Gas Association (AGA), the Interstate Natural Gas Association of America (INGAA), and the American Petroleum Institute (API). On September 23, 2022, AGA submitted a petition for reconsideration of the August 2022 Final Rule requesting clarification of two definitions at § 192.3 (regarding “in-line inspection” and “transmission line”) and additional compliance time. See Docket No. PHMSA-2011-0023-0643. PHMSA's November 18, 2022, response letter to AGA's petition is available in the docket for this rulemaking at Docket No. PHMSA-2011-0023-0646.

Also on September 23, 2022, INGAA and API jointly submitted a petition for reconsideration of the August 2022 Final Rule that raised a wide variety of requests, including additional compliance time. See Docket No. PHMSA-2011-0023-0644. PHMSA's April 19, 2023, response letter to INGAA and API's petition is available in the docket for this rulemaking at Docket No. PHMSA-2011-0023-0649. Several of the issues raised in this petition have also informed technical corrections made in this notice.

IV. Regulatory Analyses and Notices

A. Legal Authority

Statutory authority for these technical corrections to the August 2022 Final Rule, as with that final rule itself, is provided by the Federal Pipeline Safety Act (49 U.S.C. 60101 et seq.). The Secretary delegated his authority under the Federal Pipeline Safety Act to the PHMSA Administrator under 49 CFR 1.97.

PHMSA finds it has good cause to make these five technical corrections without notice and comment pursuant to Section 553(b) of the Administrative Procedure Act (APA, 5 U.S.C. 551, et seq.). Section 553(b)(B) of the APA provides that, when an agency for good cause finds that notice and public procedure are impracticable, unnecessary, or contrary to the public interest, the agency may issue a rule without providing notice and an opportunity for public comment. These technical corrections, as explained above, are all editorial in nature and consistent with the intent of the recently published August 2022 Final Rule, which itself was the product of a decade-long rulemaking record with extensive notice and opportunity for comment, including various occasions for input through the GPAC at public meetings. The technical corrections make no substantive changes to the August 2022 Final Rule but merely facilitate its implementation by aligning the regulatory text with explanatory material in the August 2022 Final Rule's preamble and the administrative record. Because the August 2022 Final Rule is the product of an extensive administrative record with numerous opportunities (including through written comments and the advisory committee) for public comment, PHMSA finds that additional comment on the technical corrections herein is unnecessary.

B. Executive Order 12866 and DOT Regulatory Policies and Procedures

These technical corrections have been evaluated in accordance with existing policies and procedures and are considered not significant under Executive Order 12866 (“Regulatory Planning and Review”) ⁶ and DOT Order 2100.6A (“Rulemaking and Guidance Procedures”). While the August 2022 Final Rule received review by the Office of Management and Budget (OMB) under Executive Order 12866, these technical corrections (which are consistent with the final rule) are not considered significant and accordingly, this notice has not been reviewed under that authority. PHMSA finds that the technical corrections herein (in all respects consistent with the final rule) neither impose incremental compliance costs nor adversely affect safety.

⁶ 58 FR 51735 (Oct. 4, 1993).

C. Regulatory Flexibility Act

The Regulatory Flexibility Act, as amended by the Small Business Regulatory Flexibility Fairness Act of 1996 (RFA, 5 U.S.C. 601 et seq.), generally requires Federal regulatory agencies to prepare a Final Regulatory Flexibility Analysis (FRFA) for a final rule subject to notice-and-comment rulemaking under the APA. 5 U.S.C. 604(a).⁷ PHMSA did so for the August 2022 Final Rule, where the FRFA is available in the rulemaking docket, and that analysis remains unchanged as the technical corrections will impose no new incremental compliance costs.⁸ Because PHMSA has “good cause” under the APA to forego comment on the technical corrections herein, no FRFA is required, consistent with the Small Business Administration's implementing guidance which explains that “[i]f an NPRM is not required, the RFA does not apply.” ⁹

⁷ This requirement is subject to exceptions—which are not in any event applicable here because PHMSA has good cause to forego comment in adopting the technical correction herein.

⁸ Final Regulatory Impact Analysis, Doc. No. PHMSA-2011-0023-0637, at 44 (Aug. 26, 2022).

⁹ Small Business Administration, “A Guide for Government Agencies: How to Comply with the Regulatory Flexibility Act” 55 (2017).

D. Paperwork Reduction Act

The technical corrections in this notice impose no new or revised information collection requirements beyond those discussed in the August 2022 Final Rule.

E. Unfunded Mandates Reform Act of 1995

These technical corrections do not impose an unfunded mandate under the Unfunded Mandates Reform Act of 1995 (UMRA, 2 U.S.C. 1501 et seq.). PHMSA prepared an analysis of the UMRA considerations in the final regulatory impact analysis for the August 2022 Final Rule, which is available in the docket for the rulemaking.¹⁰ These technical corrections have no substantial effect on that analysis as they will impose no new incremental compliance costs. PHMSA has analyzed the technical corrections in this notice under the factors in the UMRA, as well, and determined that the technical corrections to the final rule herein do not impose enforceable duties on State, local, or Tribal governments or on the private sector of $100 million or more, adjusted for inflation, in any one year.

¹⁰ Doc. No. PHMSA-2011-0023-0637, at 44 (Aug. 26, 2022).

F. National Environmental Policy Act

The National Environmental Policy Act of 1969 (NEPA, 42 U.S.C. 4321 et seq.) requires Federal agencies to prepare a detailed statement on major Federal actions significantly affecting the quality of the human environment. PHMSA analyzed the August 2022 Final Rule in accordance with NEPA, implementing Council on Environmental Quality regulations (40 CFR parts 1500-1508), and DOT implementing policies (DOT Order 5610.1C, “Procedures for Considering Environmental Impacts”) and determined the final rule would not significantly affect the quality of the human environment.¹¹ The technical corrections in this notice have no effect on PHMSA's earlier NEPA analysis prepared on the August 2022 Final Rule as the technical corrections are consistent, and merely facilitate compliance with, the August 2022 Final Rule. The purpose of the technical corrections is to further improve safety in conducting operations and repairs.

¹¹ Final Environmental Assessment, Doc. No. PHMSA-2011-0023-0635 (July 2022).

G. Privacy Act Statement

In accordance with 5 U.S.C. 553(c), DOT solicits comments from the public to inform its rulemaking process. DOT posts these comments, without edit, including any personal information the commenter provides, to www.regulations.gov, as described in the system of records notice (DOT/ALL-14 FDMS), which can be reviewed at www.dot.gov/privacy.

H. Executive Order 13132 (Federalism)

PHMSA has analyzed this notice in accordance with the principles and criteria contained in Executive Order 13132 (“Federalism”).¹² PHMSA has previously determined that the August 2022 Final Rule itself did not impose any substantial direct effect on the States, the relationship between the National Government and the States, or the distribution of power and responsibilities among the various levels of government, see 87 FR at 52266; nor do the technical corrections herein, which are consistent with the August 2022 Final Rule and merely facilitate its compliance. Therefore, the consultation and funding requirements of Executive Order 13132 do not apply.

¹² 64 FR 43255 (Aug. 10, 1999).

I. Executive Order 13211

PHMSA analyzed the August 2022 Final Rule and determined that the requirements of Executive Order 13211 (“Actions Concerning Regulations that Significantly Affect Energy Supply, Distribution, or Use”) ¹³ did not apply. Neither are these technical corrections to the rule a “significant energy action” under Executive Order 13211 as they are not likely to have a significant adverse effect on supply, distribution, or energy use. Further, OMB has not designated these corrections a significant energy action.

¹³ 66 FR 28355 (May 22, 2001).

J. Executive Order 13175

This document was analyzed in accordance with the principles and criteria contained in Executive Order 13175 (“Consultation and Coordination with Indian Tribal Governments”) ¹⁴ and DOT Order 5301.1 (“Department of Transportation Policies, Programs, and Procedures Affecting American Indians, Alaska Natives, and Tribes”). Because nothing herein has Tribal implications or imposes substantial direct compliance costs on Indian Tribal governments, the funding and consultation requirements of Executive Order 13175 do not apply.

¹⁴ 65 FR 67249 (Nov. 6, 2000).

K. Executive Order 13609 and International Trade Analysis

Under Executive Order 13609 (“Promoting International Regulatory Cooperation”),¹⁵ agencies must consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements. The technical corrections to the final rule in this notice do not impact international trade.

¹⁵ 77 FR 26413 (May 4, 2012).

L. Regulation Identifier Number (RIN)

A regulation identifier number (RIN) is assigned to each regulatory action listed in the Unified Agenda of Federal Regulations. The Regulatory Information Service Center publishes the Unified Agenda in April and October of each year. The RIN contained in the heading of this document can be used to cross-reference this action with the Unified Agenda.

List of Subjects in 49 CFR Part 192

Corrosion control, Incorporation by reference, Installation of pipe in a ditch, Integrity management, Internal inspection device, Management of change, Pipeline safety, Repair criteria, Surveillance.

In consideration of the foregoing, PHMSA further amends 49 CFR part 192, as amended August 24, 2022, at 87 FR 52224, and effective May 24, 2023, by making the following technical amendments:

PART 192—TRANSPORTATION OF NATURAL AND OTHER GAS BY PIPELINE: MINIMUM FEDERAL SAFETY STANDARDS

1. The authority citation for part 192 continues to read as follows:

Authority: 30 U.S.C. 185(w)(3), 49 U.S.C. 5103, 60101 et seq., and 49 CFR 1.97.

2. Section 192.319, as amended August 24, 2022, at 87 FR 52269, and effective May 24, 2023, is further amended by revising paragraph (f) to read as follows:

§ 192.319 Installation of pipe in a ditch.

* * * * *

(f) An operator of an onshore steel transmission pipeline must develop a remedial action plan and apply for any necessary permits within 6 months of completing the assessment that identified the deficiency. An operator must repair any coating damage classified as severe (voltage drop greater than 60 percent for DCVG or 70 dBµV for ACVG) in accordance with section 4 of NACE SP0502 (incorporated by reference, see § 192.7) within 6 months of the assessment, or as soon as practicable after obtaining necessary permits, not to exceed 6 months after the receipt of permits.

* * * * *

3. Section 192.473, as amended August 24, 2022, at 87 FR 52269, and effective May 24, 2023, is further amended by revising paragraph (c)(3) to read as follows:

§ 192.473 External corrosion control: Interference currents.

* * * * *

(c) * * *

(3) Development of a remedial action plan to correct any instances where interference current is greater than or equal to 100 amps per meter squared alternating current (AC), or if it impedes the safe operation of a pipeline, or if it may cause a condition that would adversely impact the environment or the public; and

* * * * *

4. Section 192.714, as added August 24, 2022, at 87 FR 52271, and effective May 24, 2023, is amended by revising paragraphs (b), (d)(1) introductory text, and (d)(3)(i) to read as follows:

§ 192.714 Transmission lines: Repair criteria for onshore transmission pipelines.

* * * * *

(b) General. Each operator must, in repairing its pipeline systems, ensure that the repairs are made in a safe manner and are made to prevent damage to persons, property, and the environment. A pipeline segment's operating pressure must be less than the predicted failure pressure determined in accordance with § 192.712 during repair operations. Repairs performed in accordance with this section must use pipe and material properties that are documented in traceable, verifiable, and complete records. If documented data required for any analysis, including predicted failure pressure for determining MAOP, is not available, an operator must obtain the undocumented data through § 192.607. Until documented material properties are available, the operator must use the conservative assumptions in either § 192.712(e)(2) or, if appropriate following a pressure test, in § 192.712(d)(3).

* * * * *

(d) * * *

(1) Immediate repair conditions. An operator's evaluation and remediation schedule for immediate repair conditions must follow section 7 of ASME/ANSI B31.8S (incorporated by reference, see § 192.7). An operator must repair the following conditions immediately upon discovery:

* * * * *

(3) * * *

(i) A dent that is located between the 4 o'clock and 8 o'clock positions (bottom ⅓ of the pipe) with a depth greater than 6 percent of the pipeline diameter (greater than 0.50 inches in depth for a pipeline diameter less than NPS 12), and where an engineering analysis, performed in accordance with § 192.712(c), demonstrates critical strain levels are not exceeded.

* * * * *

5. Section 192.933, as amended August 24, 2022, at 87 FR at 52277, and effective May 24, 2023, is further amended by revising paragraph (a) introductory text to read as follows:

§ 192.933 What actions must be taken to address integrity issues?

(a) General requirements. An operator must take prompt action to address all anomalous conditions the operator discovers through the integrity assessment. In addressing all conditions, an operator must evaluate all anomalous conditions and remediate those that could reduce a pipeline's integrity. An operator must be able to demonstrate that the remediation of the condition will ensure the condition is unlikely to pose a threat to the integrity of the pipeline until the next reassessment of the covered segment. Repairs performed in accordance with this section must use pipe and material properties that are documented in traceable, verifiable, and complete records. If documented data required for any analysis is not available, an operator must obtain the undocumented data through § 192.607. Until documented material properties are available, the operator must use the conservative assumptions in either § 192.712(e)(2) or, if appropriate following a pressure test, in § 192.712(d)(3).

* * * * *

Issued in Washington, DC, under authority delegated in 49 CFR 1.97.
Tristan H. Brown,
Deputy Administrator, Pipeline and Hazardous Materials Safety Administration.

[FR Doc. 2023-08548 Filed 4-21-23; 8:45 am]

BILLING CODE 4910-60-P